DEPARTMENT OF THE INTERIOR

Fish and Wildlife Service

[FWS-R6-ES-2016-N005; 60120-1113-0000-C2]

Endangered and Threatened Wildlife and Plants; Draft Recovery Plan for Winkler Cactus and San Rafael Cactus

AGENCY: Fish and Wildlife Service, Interior.

ACTION: Notice of document availability for review and comment.

SUMMARY: We, the U.S. Fish and Wildlife Service (Service), announce the availability of a draft recovery plan for Winkler cactus (Pediocactus winkleri) and San Rafael cactus (Pediocactus despainii). Winkler cactus is federally listed as threatened, and San Rafael cactus is federally listed as endangered under the Endangered Species Act of 1973, as amended (ESA). We are soliciting review and comment from the public on this draft plan.

DATES: Comments on the draft recovery plan must be received on or before July 5, 2016.

ADDRESSES: Copies of the draft recovery plan are available by request from the Utah Ecological Services Field Office, U.S. Fish and Wildlife Service, 2369 West Orton Circle, Suite 50, West Valley City, UT 84119; telephone 801-975-3330. Submit comments on the draft recovery plan to the Field Supervisor at this same address. Comments may also be submitted at: utahfieldoffice_esa@fws.gov.

An electronic copy of the draft recovery plan is available at: http://www.fws.gov/endangered/species/recovery-plans.html.

FOR FURTHER INFORMATION CONTACT: Larry Crist, Field Supervisor, Utah Ecological Services Field Office, at the above address, or telephone 801-975-3330.

SUPPLEMENTARY INFORMATION:

Background

Restoring an endangered or threatened animal or plant to the point where it is again a secure, self-sustaining member of its ecosystem is a primary goal of the Service's endangered species program. To help guide recovery efforts, we prepare recovery plans to promote the conservation of the species. Recovery plans describe site-specific actions necessary for the conservation of the species; establish objective, measurable criteria that, when met, would result in a determination that the species no longer needs the protection of the ESA (16 U.S.C. 1531 et seq.); and provide estimates of the time and cost for implementing the needed recovery measures.

The ESA requires recovery plans for listed species unless such a plan would not promote the conservation of a particular species. Section 4(f) of the ESA, as amended in 1988, requires that public notice and opportunity for public review and comment be provided during recovery plan development. On September 27, 1995, we published a document in the Federal Register (60 FR 49855) that made available a draft recovery plan for Winkler cactus and San Rafael cactus. That recovery plan was never finalized and is now out of date. At this time, we are making available a more comprehensive draft recovery plan for public review and comment. We will consider all information we receive during a public comment period when preparing the recovery plan for approval. The Service and other Federal agencies also will take these comments into consideration in the course of implementing an approved recovery plan.

It is our policy to request peer review of recovery plans. We will summarize and respond to the issues raised by the public and peer reviewers in an appendix to the approved recovery plan.

Species Information

Winkler Cactus

Winkler cactus is a small, peach- to pink-flowered cactus that often retracts entirely into the ground during the winter and dry seasons. It is endemic to Wayne County and southeast Sevier County of south-central Utah and is generally found at elevations of 1,500-2,130 meters (m) (4,900-7,000 feet (ft)).

Winkler cactus was listed as a threatened species under the ESA, effective September 21, 1998 (63 FR 44587; August 20, 1998). Factors of concern affecting the species include illegal collection, habitat disturbances (mining, recreation, off-highway vehicle (OHV) use, livestock grazing, road and utility corridor development, general construction, and livestock grazing), invasive plant species, small mammal and insect predation, native ungulate disturbance, inadequacy of existing regulatory mechanisms, and climate change.

San Rafael Cactus

San Rafael cactus is a small, yellow- to peach-flowered cactus that often retracts entirely into the ground during the winter and dry seasons. It is endemic to Emery County of central Utah and most commonly occurs on sites with a south exposure at elevations of 1,450-2,080 m (4,760-6,820 ft).

San Rafael cactus was listed as an endangered species under the ESA, effective October 16, 1987 (52 FR 34914; September 16, 1987). Factors of concern affecting the species include illegal collection, habitat disturbances (mining, recreation, off-highway vehicle (OHV) use, livestock grazing, road and utility corridor development, general construction, and livestock grazing), invasive plant species, small mammal and insect predation, native ungulate disturbance, inadequacy of existing regulatory mechanisms, wild horse disturbance, paleontological exploration, and climate change.

Recovery Strategies

Our recovery strategies for Winkler cactus and San Rafael cactus are based on the assumption that if specific criteria are met for the existing populations, the species can be recovered. Broadly, these criteria require that the population trends for both species be stable or improving over the long term, the available habitat base for each population be adequate for long-term health and sustainability, the populations and habitats are secure from decline, and long-term management plans for the populations and their habitats are in place that address those threats.

Request for Public Comments

The Service solicits public comments on the draft recovery plan. All comments we receive by the date specified in DATES will be considered prior to approval of the plan. Written comments and materials regarding the plan should be addressed to the Field Supervisor (see ADDRESSES). Comments may also be submitted at: utahfieldoffice_esa@fws.gov. Comments and materials received will be available, by appointment, for public inspection during normal business hours at the Utah Ecological Services Field Office (see ADDRESSES).

Authority

The authority for this action is section 4(f) of the Endangered Species Act, 16 U.S.C. 1533(f).

Dated: February 29, 2016.
Matt Hogan,
Deputy Regional Director, Denver, Colorado.

[FR Doc. 2016-10517 Filed 5-4-16; 8:45 am]

BILLING CODE 4333-15-P